DEPARTMENT OF COMMERCE

National Oceanic and Atmospheric Administration

[I.D. 101901B]

Proposed Information Collection; Comment Request; Coastal Impact Assistance Program: Project Review Checklist

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before December 24, 2001.

ADDRESSES: Direct all written comments to Madeleine Clayton, Departmental Paperwork Clearance Officer, Department of Commerce, Room 6086, 14th and Constitution Avenue NW, Washington DC 20230 (or via the Internet at MClayton@doc.gov).

FOR FURTHER INFORMATION CONTACT: Requests for additional information or copies of the information collection instrument(s) and instructions should be directed to John R. King, N/ORM3, Room 11357, 1305 East-West Highway, Silver Spring, MD 20910- 3282 (phone 301- 713- 3155, ext. 188).

SUPPLEMENTARY INFORMATION:

I. Abstract

The Coastal Impact Assistance Program (CIAP) recognizes that impacts from Outer Continental Shelf oil and gas activities fall disproportionately on coastal states and localities nearest to where the activities occur. The program provides funds to seven states and 147 local governments to conduct a variety of related projects, including construction and land acquisition. NOAA must review the projects in accordance with the CIAP legislation before disbursing funds. To expedite review, NOAA developed the CIAP Project Checklist for the construction and land acquisition projects. The Checklist, whose use is voluntary, asks applicants to provide project information to allow NOAA to determine their eligibility under the CIAP as well as eligibility under other relevant statutes (NEPA, etc.).

II. Method of Collection

Form submitted in paper or electronic format.

III. Data

OMB Number: 0648-0440.

Form Number: None.

Type of Review: Regular submission.

Affected Public: State, local, or tribal government.

Estimated Number of Respondents: 154.

Estimated Time Per Response: 5 hours.

Estimated Total Annual Burden Hours: 1,875.

Estimated Total Annual Cost to Public: $1,875.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 17, 2001.
Gwellnar Banks
Management Analyst, Office of the Chief Information Officer Information Officer.

[FR Doc. 01-26796 Filed 10-23-01; 8:45 am]

BILLING CODE 3510-08-S